DEPARTMENT OF COMMERCE

Foreign-Trade Zones Board

[B-42-2019]

Foreign-Trade Zone (FTZ) 92—Gulfport, Mississippi; Authorization of Production Activity; Vision Technologies Marine, Inc. (Ocean Going-Vessels: Compensators), Pascagoula, Mississippi

On June 19, 2019, Vision Technologies Marine, Inc. (Vision Tech) submitted a notification of proposed production activity to the FTZ Board for its facility within FTZ 92 in Pascagoula, Mississippi.

The notification was processed in accordance with the regulations of the FTZ Board (15 CFR part 400), including notice in the Federal Register inviting public comment (84 FR 31293, July 1, 2019). On October 17, 2019, the applicant was notified of the FTZ Board's decision that no further review of the activity is warranted at this time. The production activity described in the notification was authorized, subject to the FTZ Act and the FTZ Board's regulations, including Section 400.14, except for the foreign-status component identified as “tape” due to insufficient information. The applicant may, however, submit another notification of proposed production activity with more detailed information for the foreign-status component in question.

Dated: October 17, 2019.
Andrew McGilvray,
Executive Secretary.

[FR Doc. 2019-23357 Filed 10-24-19; 8:45 am]

BILLING CODE 3510-DS-P